TENNESSEE VALLEY AUTHORITY

Sunshine Act Meeting Notice

Meeting No. 15-01

The TVA Board of Directors will hold a public meeting on February 12, 2015, in the Missionary Ridge Auditorium of the Chattanooga Office Complex, 1101 Market Street, Chattanooga, Tennessee. The public may comment on any agenda item or subject at a public listening session which begins at 8:30 a.m. (ET). Following the end of the public listening session, the meeting will be called to order to consider the agenda items listed below. On-site registration will be available until 15 minutes before the public listening session begins at 8:30 a.m. (ET). Preregistered speakers will address the Board first. TVA management will answer questions from the news media following the Board meeting.

Status: Open.

Agenda

Chairman's Welcome

Old Business

Approval of minutes of the November 6, 2014, and December 30, 2014, Board Meetings.

New Business

1. Designation of Corporate Secretary

2. Report from President and CEO

3. Report of the External Relations Committee

A. Regional Energy Resource Council Charter

4. Report of the Audit, Risk, and Regulation Committee

5. Report of the People and Performance Committee

6. Report of the Finance, Rates, and Portfolio Committee

A. Financial Performance Update

B. Off-Peak Overlay Rate Extension

C. Extension of Fleet Services Contract

D. Acquisition of Generation Facility

E. Utility-Scale Solar PPA

7. Report of the Nuclear Oversight Committee

For more information: Please call TVA Media Relations at (865) 632-6000, Knoxville, Tennessee. People who plan to attend the meeting and have special needs should call (865) 632-6000. Anyone who wishes to comment on any of the agenda in writing may send their comments to: TVA Board of Directors, Board Agenda Comments, 400 West Summit Hill Drive, Knoxville, Tennessee 37902.

Dated: February 5, 2015.
Sherry A. Quirk,
General Counsel.

[FR Doc. 2015-02915 Filed 2-10-15; 11:15 am]

BILLING CODE 8120-08-P